DEPARTMENT OF HEALTH AND HUMAN SERVICES

Agency for Toxic Substances and Disease Registry

[ATSDR-161]

Public Health Assessments Completed

AGENCY: Agency for Toxic Substances and Disease Registry (ATSDR), Department of Health and Human Services (HHS).

ACTION: Notice.

SUMMARY: This notice announces those sites for which ATSDR has completed public health assessments during the period from July through September 2000. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on September 21, 2000 (65 FR57190). This announcement is the responsibility of ATSDR under the regulation, Public Health Assessments and Health Effects Studies of Hazardous Substances Releases and Facilities (42 CFR part 90). This rule sets forth ATSDR's procedures for the conduct of public health assessments under section 104(i) of the Comprehensive Environmental Response, Compensation, and Liability Act (CERCLA), as amended by the Superfund Amendments and Reauthorization Act (SARA) (42 U.S.C. 9604(i)).

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assessments Completed or Issued

Between July 1 and September 30, 2000, public health assessments were issued for the sites listed below:

NPL Sites

Florida

Tyndall Air Force Base—Panama City—(PB20-108005)

Whiting Field Naval Air Station (Aliases: Naval Air Station

Whiting Field/USN Naval Air Station Whiting Field Site)—Milton—(PB20-108505)

Iowa

Electro-Coatings, Incorporated—Cedar Rapids—(PB20-108077)

Massachusetts

Fort Devens—Ayer—(PB20-106950)

New Jersey

Cornell Dubilier Electronics Incorporated—South Plainfield—(PB21-101226)

Federal Creosote—Manville—(PB21-100165)

Route 561 Dump (a/k/a Route 561) and United States

Avenue Burn (a/k/a US Avenue Burn Site)—(PB20-108506)

New York

Pelham Bay Landfill—Bronx—(PB20-107333)

Peter Cooper—Gowanda—(PB20-108091)

Sidney Landfill—Sidney—(PB20-108092)

Oklahoma

Tulsa Fuel and Manufacturing—Collinsville—(PB21-100129)

Washington

Bangor Naval Submarine Base and Bangor Ordnance Disposal (US Navy)—(PB20-107348)

Non NPL Petitioned Sites

Alaska

Alaska Pulp Corporation—Sitka—(PB21-100495)

California

Koppers Company, Incorporated (Oroville Plant) [a/k/a Koppers (Oroville)]—(PB21-100496)

Dated: December 14, 2000.
Georgi Jones,
Director, Office of Policy and External Affairs, Agency for Toxic Substances and Disease Registry.

[FR Doc. 00-32500 Filed 12-20-00; 8:45 am]

BILLING CODE 4163-70-P